DEPARTMENT OF JUSTICE

National Institute of Corrections

Notice of Federal Advisory Committee Charter Renewal

AGENCY: National Institute of Corrections (NIC), Department of Justice.

ACTION: Notice of Federal advisory committee charter renewal.

SUMMARY: In accordance with the Federal Advisory Committee Act, the purpose of this notice is to announce that the National Institute of Corrections has renewed the charter for the NIC Advisory Board for a two-year period through September 14, 2025.

DATES: Renewed through September 14, 2025.

ADDRESSES: National Institute of Corrections, 901 D Street SW, 3rd Floor, Washington, DC 20024.

To Obtain a Copy of the Charter: A complete copy of the Charter is available from the NIC in electronic format. An electronic copy can be downloaded in PDF format on the NIC website, https://nicic.gov. To obtain a paper copy of the Charter, please mail your request to the National Institute of Corrections, 901 D Street SW, 3rd Floor, Washington, DC 20024.

FOR FURTHER INFORMATION CONTACT: Leslie S. LeMaster, Telephone: (202) 305-5773, Email: llemaster@bop.gov.

SUPPLEMENTARY INFORMATION: The NIC Advisory Board is a Federal advisory committee enacted pursuant to the authority provided at 5 U.S.C. 1001-1014, the Federal Advisory Committee Act (FACA), and 41 CFR 102-3.50(a).

In general, the NIC provides training, technical assistance, information services, and policy/program development assistance to Federal, State, and local corrections agencies; through cooperative agreements, awards funds to support program initiatives; and provides leadership to influence correctional policies, practices, and operations nationwide in areas of emerging interest and concern to correctional executives and practitioners as well as public policymakers. The NIC Advisory Board is a Federal advisory committee created by statute whose mandate is to advise the NIC on long-range plans, advise on program development, and recommend guidance to assist the NIC's efforts in these areas. The Advisory Board will also advise the Attorney General about the appointment of the Director of the NIC. In accordance with the Federal Advisory Committee Act, Public Law 92-463, as amended, this notice advises interested persons of the renewal of this charter.

Leslie S. LeMaster,
Designated Federal Official to the NIC Advisory Board, The National Institute of Corrections.

[FR Doc. 2023-20924 Filed 9-25-23; 8:45 am]

BILLING CODE P